DEPARTMENT OF ENERGY

Federal Energy Regulatory Commission

[Docket No. CP02-204-000]

Transcontinental Gas Pipe Line Corporation; Notice of Availability of the Environmental Assessment for the Proposed Trenton Woodbury Expansion Project

October 24, 2002.

The staff of the Federal Energy Regulatory Commission (FERC or Commission) has prepared this Environmental Assessment (EA) on the natural gas pipeline facilities proposed by Transcontinental Gas Pipe Line Corporation (Transco) in the above-referenced docket.

The EA was prepared to satisfy the requirements of the National Environmental Policy Act. The staff concludes that approval of the proposed project, with appropriate mitigating measures, would not constitute a major Federal action significantly affecting the quality of the human environment.

The EA assesses the potential environmental effects of the construction and operation of the proposed natural gas pipeline facilities, including:

• Trenton Woodbury Expansion Loop—about 7.17 miles of new 36-inch-diameter loop and associated tap valve and pig launcher/receiver facilities adjacent to Transco's existing 16-inch-diameter Trenton Woodbury Line “A” between milepost (MP) 8.23 and MP 15.40 in Mercer and Burlington Counties, New Jersey; and

• Fairless Delivery Lateral—about 2.48 miles of new 24-inch-diameter pipeline lateral in Burlington County, New Jersey, and Bucks County, Pennsylvania, including a meter station in Bucks County, Pennsylvania, and associated tap valve and pig launcher/receiver facilities at the beginning and end points of the lateral. The lateral would commence from approximate MP 17.74 on Transco's existing Trenton Woodbury Line “A” in Bordentown, New Jersey.

Transco states that the project facilities would create incremental primary firm capacity and provide additional delivery flexibility to its subscribers, PECO Energy Company (PECO) and Virginia Power Energy Marketing (VAPEM), on Transco's existing Trenton Woodbury Line in Mercer and Burlington Counties, New Jersey. The project would also provide natural gas to a new power generation plant in Bucks County, Pennsylvania.

The EA has been placed in the public files of the FERC. A limited number of copies of the EA are available for distribution and public inspection at: Federal Energy Regulatory Commission, Public Reference and Files Maintenance Branch, 888 First Street, NE, Room 2A, Washington, DC 20426, (202) 502-8371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE, Room 1A, Washington, DC 20426;

• Label one copy of the comments for the attention of the Gas Branch 1, PJ11.1.

• Reference Docket No. CP02-204-000; and

• Mail your comments so that they will be received in Washington, DC on or before November 25, 2002.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

Comments will be considered by the Commission but will not serve to make the commentor a party to the proceeding. Any person seeking to become a party to the proceeding must file a motion to intervene pursuant to Rule 214 of the Commission's Rules of Practice and Procedures (18 CFR 385.214). ¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (www.ferc.gov) using the FERRIS link. Click on the FERRIS link, enter the docket number excluding the last three digits in the Docket Number field. Be sure you have selected an appropriate date range. For assistance with FERRIS, the FERRIS helpline can be reached at 1-866-208-3676, TTY (202) 502-8659 or at FERCONLINESUPPORT@FERC.GOV. The FERRIS link on the FERC Internet Web site also provides access to the texts of formal documents issued by the Commission, such as orders, notices, and rulemakings.

Linwood A. Watson, Jr.,
Deputy Secretary.

[FR Doc. 02-27922 Filed 11-1-02; 8:45 am]

BILLING CODE 6717-01-P